DEPARTMENT OF JUSTICE

Office of Justice Programs

[OJP (NIJ) Docket No. 1650]

Draft Reports and Recommendations Prepared by the Research Committee of the Scientific Working Group on Disaster Victim Identification

AGENCY: National Institute of Justice, JPO, DOJ.

ACTION: Notice and request for comments.

SUMMARY: In an effort to obtain comments from interested parties, the U.S. Department of Justice, Office of Justice Programs, National Institute of Justice, Scientific Working Group for Disaster Victim Identification will make available to the general public the following three draft documents: (1) “Data Management: Guidelines for the Medicolegal Authority”; (2) “Family Assistance Center: Guidelines for Medicolegal Authorities”; and (3) “Molecular Biology Considerations for Human Identification in Mass Fatality Incidents”. The opportunity to provide comments on any or all of these documents is open to coroner/medical examiner office representatives, law enforcement agencies, organizations, and all other stakeholders and interested parties. Those individuals wishing to obtain the draft documents under consideration, and provide comments regarding them, are directed to the following Web site: http://www.swgdvi.org.

DATES: Comments must be received on or before April 7, 2014.

FOR FURTHER INFORMATION CONTACT: Patricia Kashtan, by telephone at 202-353-1856 [Note: this is not a toll-free telephone number], or by email at Patricia.Kashtan@usdoj.gov.

Greg Ridgeway,
Acting Director, National Institute of Justice.

[FR Doc. 2014-05893 Filed 3-17-14; 8:45 am]

BILLING CODE 4410-18-P